DEPARTMENT OF JUSTICE

Notice of Lodging of Consent Decree Under Comprehensive Environmental Response, Compensation and Liability Act

In accordance with Departmental policy, 28 CFR 50.7, notice is hereby given that a proposed consent decree in United States v. Cotter Corporation, C.A. No. 00-WM-1076 (D. Col.), was lodged on May 25, 2000, with the United States District Court for the District of Colorado. The consent decree resolves the United States' claims against the Cotter Corporation with respect to past response costs incurred, pursuant to section 107 of the Comprehensive Environmental Response, Compensation and Liability Act, 42 U.S.C. 9607, in connection with the clean-up of the Lincoln Park Site. The Site is located near Canon City, Fremont, Colorado. Under the consent decree, defendant Cotter Corporation will pay the United States $52,500 in reimbursement of past response costs incurred in connection with the Site.

The Department of Justice will receive, for a period of thirty (30) days from the date of this publication, comments relating to the proposed decree. Comments should be addressed to the Assistant Attorney General for the Environment and Natural Resources Division, Department of Justice, Washington, DC 20530, and should refer to United States v. Cotter Corporation, DOJ Reference No. 90-11-3-305-A.

The proposed consent decree may be examined at the Office of the United States Attorney, 1961 Stout Street, Suite 1200, Denver, Colorado; and the Region VIII Office of the Environmental Protection Agency, 999 18th Street, Suite 500, Denver, Colorado. A copy of the proposed decree may be obtained by mail from the Department of Justice Consent Decree Library, P.O. Box 7611, Washington, DC 20044. In requesting a copy, please refer to the referenced case and enclose a check in the amount of $5.25 (.25 cents per page production costs), payable to the Consent Decree Library.

Joel M. Gross,
Chief, Environmental Enforcement Section, Environment and Natural Resources Division.

[FR Doc. 00-15592 Filed 6-20-00; 8:45 am]

BILLING CODE 4410-15-M